DEPARTMENT OF THE TREASURY

Office of Foreign Assets Control

31 CFR Part 594

Publication of Global Terrorism Sanctions Regulations Web General License 21

AGENCY: Office of Foreign Assets Control, Treasury.

ACTION: Publication of web general licenses.

SUMMARY: The Department of the Treasury's Office of Foreign Assets Control (OFAC) is publishing a general license (GL) issued pursuant to the Global Terrorism Sanctions Regulations: GL 21, which was previously made available on OFAC's website.

DATES: GL 21 was issued on November 15, 2022. See SUPPLEMENTARY INFORMATION for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

On November 15, 2022, OFAC issued GL 21 to authorize certain transactions otherwise prohibited by the Global Terrorism Sanctions Regulations, 31 CFR part 594. At the time of issuance, OFAC made GL 21 available on its website (www.treas.gov/ofac). GL 21 has an expiration date of December 15, 2022. The text of this GL is provided below.

OFFICE OF FOREIGN ASSETS CONTROL

Global Terrorism Sanctions Regulations 31 CFR Part 594

GENERAL LICENSE NO. 21

Authorizing Limited Safety and Environmental Transactions Involving Certain Vessels

(a) Except as provided in paragraph (c) of this general license, all transactions that are ordinarily incident and necessary to one of the following activities involving the persons or vessels described in paragraph (b) of this general license that are prohibited by the Global Terrorism Sanctions Regulations, 31 CFR part 594 (GTSR), are authorized through 12:01 a.m. eastern standard time, December 15, 2022, provided that any payment to a blocked person must be made into a blocked account in accordance with the GTSR:

(1) The safe docking and anchoring of any of the blocked vessels listed in paragraph (b) of this general license (“blocked vessels”) in port;

(2) The preservation of the health or safety of the crew of any of the blocked vessels; and

(3) Emergency repairs of any of the blocked vessels or environmental mitigation or protection activities relating to any of the blocked vessels.

(b) The authorization in paragraph (a) of this general license applies to the following blocked persons and vessels listed on the Office of Foreign Assets Control's Specially Designated Nationals and Blocked Persons List and any entity in which any of the following persons own, directly or indirectly, a 50 percent or greater interest:

• Artemov, Victor Sergioyovich

○ BOCEANICA, IMO 9267132

○ ZEPHYR I (f.k.a. ZHEN I), IMO 9255880

• Azul Vista Shipping Corp.

○ JULIA A (f.k.a. AZUL), IMO 9236353

• Blue Berri Shipping Inc.

○ RAIN DROP, IMO 9233208

• Harbour Ship Management Limited

○ B LUMINOSA, IMO 9256016

○ BLUEFINS, IMO 9221657

○ BUENO, IMO 9282443

• Pontus Navigation Corp.

○ NOLAN (f.k.a. OSLO), IMO 9179701

• Technology Bright International Ltd.

○ YOUNG YONG, IMO 9194127

• Triton Navigation Corp.

○ ADISA, IMO 9304667

• Vista Clara Shipping Corp.

○ LARA I (f.k.a. CLARA), IMO 9231767

(c) This general license does not authorize:

(1) The entry into any new commercial contracts involving the property or interests in property of any of the blocked persons or vessels described in paragraph (b) of this general license, except as authorized by paragraph (a);

(2) The offloading of any cargo onboard any of the blocked vessels; or

(3) Any transactions otherwise prohibited by the GTSR, including transactions involving the property or interests in property of any person blocked pursuant to the GTSR, other than the blocked persons described in paragraph (b) of this general license, unless separately authorized.

Andrea M. Gacki,

Director, Office of Foreign Assets Control.

Dated: November 15, 2022.

Andrea M. Gacki,
Director, Office of Foreign Assets Control.

[FR Doc. 2022-27234 Filed 12-15-22; 8:45 am]

BILLING CODE 4810-AL-P